DEPARTMENT OF ENERGY

Federal Energy Regulatory Commission

Combined Notice of Filings #1

Take notice that the Commission received the following electric rate filings:

Docket Numbers: ER11-3417-001.

Applicants: Alta Wind VIII, LLC.

Description: Supplement to Notice of Non-Material Change in Status of Alta Wind VIII, LLC et al.

Filed Date: 5/30/12.

Accession Number: 20120530-5257.

Comments Due: 5 p.m. ET 9/4/12.

Docket Numbers: ER12-1653-001.

Applicants: New York Independent System Operator, Inc.

Description: New York Independent System Operator, Inc. submits tariff filing per 35: NYISO Compliance Filing: Order No. 755—Frequency Regulation to be effective 12/31/9998.

Filed Date: 8/17/12.

Accession Number: 20120817-5149.

Comments Due: 5 p.m. ET 9/7/12.

Docket Numbers: ER12-1838-000.

Applicants: Horse Butte Wind I LLC.

Description: Supplemental Notice of Horse Butte Wind I LLC.

Filed Date: 8/7/12.

Accession Number: 20120807-5155.

Comments Due: 5 p.m. ET 8/28/12.

Docket Numbers: ER12-2307-001.

Applicants: Escanaba Green Energy, LLC.

Description: Amendment of Pending Filing 132 to be effective 8/15/2012 under ER12-2307 Filing Type: 120.

Filed Date: 8/15/12.

Accession Number: 20120815-5109.

Comments Due: 5 p.m. ET 8/29/12.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: August 20, 2012.
Nathaniel J. Davis, Sr.,
Deputy Secretary.

[FR Doc. 2012-21132 Filed 8-27-12; 8:45 am]

BILLING CODE 6717-01-P